ENVIRONMENTAL PROTECTION AGENCY

40 CFR Part 52

[NM-44-1-7603a; FRL-7856-3]

Approval and Promulgation of Air Quality Implementation Plans; New Mexico; Recodification and SIP Renumbering of the New Mexico Administrative Code for Albuquerque/Bernalillo County

AGENCY: Environmental Protection Agency (EPA).

ACTION: Direct final rule.

SUMMARY: The EPA is approving a State Implementation Plan (SIP) revision submitted by the Governor of New Mexico on May 2, 2003. The submittal revises the numbering and format of New Mexico's Albuquerque/Bernalillo County SIP and contains no substantive changes to the regulations. We are approving these revisions in accordance with the requirements of the Federal Clean Air Act (the Act).

DATES: This rule is effective on February 28, 2005 without further notice, unless EPA receives relevant adverse comment by January 31, 2005. If EPA receives such comment, EPA will publish a timely withdrawal in the Federal Register informing the public that this rule will not take effect.

ADDRESSES: Submit your comments, identified by File ID No. NM-44-1-7603a, by one of the following methods:

Federal eRulemaking Portal: http://www.regulations.gov. Follow the on-line instructions for submitting comments.

US EPA Region 6 “Contact Us” Web site: http://epa.gov/region6/r6coment.htm. Please click on “6PD” (Multimedia) and select “Air” before submitting comments.

E-mail: Mr. Thomas Diggs at diggs.thomas@epa.gov. Please also cc the person listed in the FOR FURTHER INFORMATION CONTACT section below.

Fax: Mr. Thomas Diggs, Chief, Air Planning Section (6PD-L), at 214-665-7263.

Mail: Mr. Thomas Diggs, Chief, Air Planning Section (6PD-L), Environmental Protection Agency, 1445 Ross Avenue, Suite 1200, Dallas, Texas 75202-2733.

Hand or Courier Delivery: Mr. Thomas Diggs, Chief, Air Planning Section (6PD-L), Environmental Protection Agency, 1445 Ross Avenue, Suite 1200, Dallas, Texas 75202-2733. Such deliveries are accepted only between the hours of 8 a.m. and 4 p.m. weekdays, except for legal holidays. Special arrangements should be made for deliveries of boxed information.

Instructions: Please include the text “Public comment on File ID No. NM-44-1-7603a” in the subject line of the first page of your comments. EPA's policy is that all comments received will be included in the public file without change, including any personal information provided, unless the comment includes information claimed to be Confidential Business Information (CBI) or other information the disclosure of which is restricted by statute. Do not submit information through regulations.gov or e-mail if you believe that it is CBI or otherwise protected from disclosure. Regulations.gov is an “anonymous access” system, which means EPA will not know your identity or contact information unless you provide it in the body of your comment. If you send an e-mail comment directly to EPA without going through regulations.gov, your e-mail address will be automatically captured and included as part of the comment that is placed in the public file and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Official File: Copies of the documents relevant to this action are in the official file which is available at the Air Planning Section (6PD-L), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below or Mr. Bill Deese at 214-665-7253 to make an appointment. If possible, please make the appointment at least two working days in advance of your visit. There will be a 15 cent per page fee for making photocopies of documents. On the day of the visit, please check in at the EPA Region 6 reception area at 1445 Ross Avenue, Suite 700, Dallas, Texas.

Copies of any State submittals and EPA's technical support document are also available for public inspection at the State Air Agency listed below during official business hours by appointment: Albuquerque Environmental Health Department, Air Pollution Control Division, One Civic Plaza, Albuquerque, New Mexico 87103.

FOR FURTHER INFORMATION CONTACT: Carrie Paige, Air Planning Section (6PD-L), EPA Region 6, 1445 Ross Avenue, Dallas, Texas 75202-2733, telephone (214) 665-6521; fax number 214-665-7263; e-mail address paige.carrie@epa.gov.

SUPPLEMENTARY INFORMATION: Throughout this document, “we,” “us,” and “our” refer to EPA.

Outline

I. The State's Submittal

A. What Revision Did the State Submit?

B. What is a SIP?

II. EPA's Evaluation

A. What is the Federal approval process for a SIP?

B. What does Federal approval of a SIP mean to me?

C. How is EPA Evaluating this Revision?

III. Final Action

IV. Statutory and Executive Order Reviews

I. The State's Submittal

A. What Revision Did the State Submit?

On May 2, 2003, the State of New Mexico submitted revisions to the New Mexico—Albuquerque/Bernalillo County SIP. These revisions apply to sections of the New Mexico Administrative Code (NMAC) for Albuquerque/Bernalillo County that have been reformatted and renumbered.

B. What Is a SIP?

Section 110 of the Act requires states to develop air pollution regulations and control strategies to ensure that state air quality meets the National Ambient Air Quality Standards (NAAQS) that EPA has established.

Each state must submit these regulations and control strategies to us for approval and incorporation into the federally enforceable SIP. Each federally approved SIP is designed to protect air quality. These SIPs can be extensive, containing state regulations or other enforceable documents and supporting information such as emission inventories, monitoring networks, and modeling demonstrations.

II. EPA's Evaluation

A. What Is the Federal Approval Process for a SIP?

When a state wants to incorporate its regulations into the federally enforceable SIP, the state must formally adopt the regulations and control strategies consistent with state and Federal requirements. This process includes a public notice, a public hearing, a public comment period, and a formal adoption by a state-authorized rulemaking body.

Once a state adopts a rule, regulation, or control strategy, the state may submit the adopted provisions to us and request that we include these provisions in the federally enforceable SIP. We must then decide on an appropriate Federal action, provide public notice on this action, and seek additional public comment regarding this action. If we receive relevant adverse comments, we must address them prior to taking a final action.

Under section 110 of the Act, when we approve all state regulations and supporting information, those state regulations and supporting information become a part of the federally approved SIP. You can find records of these SIP actions in the Code of Federal Regulations (CFR) at Title 40, part 52, entitled “Approval and Promulgation of Implementation Plans.” The actual state regulations that we approved are not reproduced in their entirety in the CFR but are “incorporated by reference,” which means that we have approved a given state regulation with a specific effective date.

B. What Does Federal Approval of a SIP Mean to Me?

A state may enforce state regulations before and after we incorporate those regulations into a federally approved SIP. After we incorporate those regulations into a federally approved SIP, both EPA and the public may also take enforcement action against violators of these regulations.

C. How Is EPA Evaluating This Revision?

The Technical Support Document (TSD) prepared for this rule provides two tables that show the current and newly reformatted versions of the NMAC. These tables allow the reviewer to cross-reference the renumbering of the NMAC. After thorough evaluation and comparison with the current SIP, we have confirmed that all sections are accounted for, the revisions are administrative in nature, limited to renumbering of existing sections and parts, and do not weaken the existing SIP.

III. Final Action

The EPA is approving the aforementioned changes to New Mexico's Albuquerque/Bernalillo County SIP because the revisions are consistent with the Act and EPA regulatory requirements. The EPA is publishing this rule without prior proposal because the EPA views this as a non-controversial submittal and anticipates no adverse comments. However, in the proposed rules section of this Federal Register publication, EPA is publishing a separate document that will serve as the proposal to approve the SIP revision should adverse comments be filed. This rule will be effective February 28, 2005 without further notice, unless EPA receives relevant adverse comment by January 31, 2005.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on February 28, 2005, and no further action will be taken on the proposed rule.

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 28, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects 40 CFR Part 52

Environmental protection, Air pollution control, Incorporation by reference, Intergovernmental relations, Reporting and recordkeeping requirements.

Dated: December 16, 2004.
Richard E. Greene,
Regional Administrator, Region 6.

40 CFR part 52 is amended as follows:

PART 52—[AMENDED]

1. The authority citation for part 52 continues to read as follows:

Authority: 42 U.S.C. 7401 et seq.

Subpart GG—New Mexico

2. In § 52.1620(c), the two tables are amended as follows:

a. In the first table entitled “EPA Approved New Mexico Regulations,” by removing the centered heading, “New Mexico Administrative Code (NMAC) Title 20—Environment Protection Chapter 11—Albuquerque/Bernalillo County Air Quality Control Board (AQCB),” and by removing the entry for Part 03, Transportation Conformity.

b. By revising the second table entitled “EPA Approved Albuquerque/Bernalillo County, NN Regulations,” to read as follows:

§ 52.1620 Identification of plan.

* * * * *

(c) * * *

* * * * *

* *

EPA Approved Albuquerque/Bernalillo County, NN Regulations
State citation | Title/subject | State approval/effective date | EPA approval date | Explanation
Albuquerque/Bernalillo County, Air Quality Control Regulations
Regulation No. 8 | Airborne Particulate Matter | 02/17/83 | 02/23/93, 58 FR 10970 | Only Section 8.03, Soil Disturbance, in SIP.
Section 21 | Permit Fees | 01/23/79 | 04/10/80, 45 FR 24460
New Mexico Administrative Code (NMAC) Title 20—Environment Protection, Chapter 11—Albuquerque/Bernalillo County Air Quality Control Board
Part 1 (20.11.1 NMAC) | General Provisions | 10/01/02 | 12/30/04 [Insert FR page where document begins]
Part 3 (20.11.3 NMAC) | Transportation Conformity | 07/01/98 | 07/08/99, 64 FR 36786 | No action taken on Sections I.2.3, II.2.4, II.7.3-7.6, II.16.5, II.18.1.B, II.19.1.A, and II.22.2.
Part 4 (20.11.4 NMAC) | General Conformity | 10/01/02 | 12/30/04 [Insert FR page where document begins]
Part 5 (20.11.5 NMAC) | Visible Air Contaminants | 01/01/03 | 12/30/04 [Insert FR page where document begins]
Part 6 (20.11.6 NMAC) | Emergency Action Plan | 10/01/02 | 12/30/04 [Insert FR page where document begins]
Part 7 (20.11.7 NMAC) | Variance Procedure | 10/01/02 | 12/30/04 [Insert FR page where document begins]
Part 21 (20.11.21 NMAC) | Open Burning | 10/01/02 | 12/30/04 [Insert FR page where document begins]
Part 22 (20.11.22 NMAC) | Woodburning | 10/01/02 | 12/30/04 [Insert FR page where document begins]
Part 40 (20.11.40 NMAC) | Source Registration | 10/01/02 | 12/30/04 [Insert FR page where document begins]
Part 41 (20.11.41 NMAC) | Authority to Construct | 10/01/02 | 12/30/04 [Insert FR page where document begins]
Part 43 (20.11.43 NMAC) | Stack Height Requirements | 10/01/02 | 12/30/04 [Insert FR page where document begins]
Part 60 (20.11.60 NMAC) | Permitting in Nonattainment Areas | 10/01/02 | 12/30/04 [Insert FR page where document begins]
Part 61 (20.11.61 NMAC) | Prevention of Significant Deterioration | 10/01/02 | 12/30/04 [Insert FR page where document begins]
Part 63 (20.11.63 NMAC) | New Source Performance Standards for Stationary Sources | 10/01/02 | 12/30/04 [Insert FR page where document begins]
Part 64 (20.11.64 NMAC) | Emission Standards for Hazardous Air Pollutants for Stationary Sources | 10/01/02 | 12/30/04 [Insert FR page where document begins]
Part 65 (20.11.65 NMAC) | Volatile Organic Compounds | 10/01/02 | 12/30/04 [Insert FR page where document begins]
Part 66 (20.11.66 NMAC) | Process Equipment | 10/01/02 | 12/30/04 [Insert FR page where document begins]
Part 67 (20.11.67 NMAC) | Equipment, Emissions, Limitations | 10/01/02 | 12/30/04 [Insert FR page where document begins]
Part 68 (20.11.68 NMAC) | Incinerators and Crematories | 04/01/02 | 12/30/04 [Insert FR page where document begins]
Part 90 (20.11.90 NMAC) | Administration, Enforcement, and Inspection | 10/01/02 | 12/30/04 [Insert FR page where document begins]
Part 100 (20.11.100 NMAC) | Motor Vehicle Inspection—Decentralized | 10/01/02 | 12/30/04 [Insert FR page where document begins]
Part 102 (20.11.102 NMAC) | Oxygenated Fuels | 10/01/02 | 12/30/04 [Insert FR page where document begins]
Part 103 (20.11.103 NMAC) | Motor Vehicle Visible Emissions | 10/01/02 | 12/30/04 [Insert FR page where document begins]

* * * * *

[FR Doc. 04-28501 Filed 12-29-04; 8:45 am]

BILLING CODE 6560-50-P